DEPARTMENT OF ENERGY

Federal Energy Regulatory Commission

[Docket No. RM21-9-000]

Technical Conference on Financial Assurance Measures for Hydroelectric Projects; Supplemental Notice of Technical Conference

As announced in the Notice of Technical Conference issued in this proceeding on January 25, 2022, the Federal Energy Regulatory Commission (Commission) will convene a Commission staff-led technical conference to discuss how the Commission may require additional financial assurance mechanisms in the licenses and other authorizations it issues for hydroelectric projects, to ensure that licensees have the capability to carry out license requirements and, particularly, to maintain their projects in safe condition. The technical conference will be held on Tuesday, April 26, 2022, from approximately 11:30 a.m. to 4:15 p.m. Eastern time. The conference will be held virtually.

Attached to this Supplemental Notice is a revised agenda for the technical conference, which includes the final conference program and expected speakers. The conference will be open for the public to attend virtually. Registration is not required, and there is no fee for attendance. Information on this technical conference, including a link to the public webcast, will be available at https://www.ferc.gov/news-events/events/technical-conference-financial-assurance-measures-hydroelectric-projects prior to the event. The conference is also posted on the Calendar of Events on the Commission's website, www.ferc.gov. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact HydroFinancialAssurance@ferc.gov. For information related to logistics, please contact Sarah McKinley at sarah.mckinley@ferc.gov or (202) 502-8368.

Dated: April 12, 2022.
Debbie-Anne A. Reese,
Deputy Secretary.

[FR Doc. 2022-08241 Filed 4-15-22; 8:45 am]

BILLING CODE 6717-01-P